DEPARTMENT OF ENERGY

Federal Energy Regulatory Commission

[Project No. 11942-001]

Hammond Hydroelectric Company; Notice of Surrender of Preliminary Permit

August 22, 2002.

Take notice that Hammond Hydroelectric Company, permittee for the proposed Big Creek Hydroelectric Project, has requested that its preliminary permit be terminated. The permit was issued on July 30, 2001, and would have expired on June 30, 2004. The project would have been located on Big Creek in Custer and Lemhi Counties, Idaho.

The permittee filed the request on July 24, 2002, and the preliminary permit for Project No. 11942 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-21901 Filed 8-27-02; 8:45 am]

BILLING CODE 6717-01-P